DEPARTMENT OF COMMERCE

National Oceanic and Atmospheric Administration

RIN 0648-XC021

Public Meetings and Request for Comments on a Draft Environmental Impact Statement Regarding the Makah Tribe's Request To Hunt Eastern North Pacific Gray Whales

AGENCY: National Marine Fisheries Service (NMFS), National Oceanic and Atmospheric Administration (NOAA), Commerce.

ACTION: Notice; request for comments.

SUMMARY: We are issuing this notice to advise the public that NMFS has prepared a new Draft Environmental Impact Statement (DEIS) in response to the Makah Tribe's request that NMFS waive the take moratorium of the Marine Mammal Protection Act (MMPA) to allow for treaty right hunting of eastern North Pacific (ENP) gray whales in usual and accustomed grounds off the coast of Washington State. We are requesting written comments on the DEIS and announcing the dates and locations of two public meetings regarding the DEIS.

DATES: Two public meetings will be held as follows:

(1) April 27, 2015, Seattle, Washington; and

(2) April 29, 2015, Port Angeles, Washington.

Specific times and locations for each of these meetings are included in SUPPLEMENTARY INFORMATION.

Written or electronic comments on the DEIS from all interested parties are encouraged and must be received no later than 5 p.m. PDT on June 11, 2015. All comments and material received, including names and addresses, will become part of the administrative record and may be released to the public.

ADDRESSES: You may submit comments, identified by NOAA-NMFS-2012-0104, by any of the following methods:

Electronic Submissions: Submit all electronic public comments via the Federal eRulemaking Portal http://www.regulations.gov.

—OR—

Email: Submit electronic public comments via the following NMFS email site: makah2015deis.wcr@noaa.gov.

—OR—

Mail: Submit written comments to: Steve Stone, NMFS West Coast Region, 1201 NE Lloyd Blvd., Suite 1100, Portland, OR 97232.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Steve Stone, NMFS Northwest Region, (503) 231-2317 or Shannon Bettridge, NMFS Office of Protected Resources, (301) 427-8402.

SUPPLEMENTARY INFORMATION: The DEIS is available in electronic form on the Internet at the following address: http://www.westcoast.fisheries .noaa.gov/protected_species/marine_mammals/cetaceans/whale_hunt.html. The DEIS also may be viewed at various libraries identified at this Internet address or at the following NMFS offices:

(1) NMFS Protected Resources Division, 1201 NE Lloyd Blvd., Suite 1100, Portland, OR 97232. Contact Steve Stone at 503-231-2317; and

(2) NMFS, Protected Resources Division, 7600 Sand Point Way NE., Building 1, Seattle, WA 98115-6349. Contact Leah Mattox at 206-526- 6150.

In addition, copies of the DEIS are available on CD by contacting Steve Stone (see FOR FURTHER INFORMATION CONTACT).

Meeting Information

The public will have the opportunity to provide written and oral comments on the DEIS at two public meetings. Dates, times, and addresses for the public meetings are as follows:

(1) April 27, 2015, 6:30 p.m.-9:30 p.m., NOAA Western Regional Center, Building 9 (Kelly C. Sandy III Auditorium), 7600 Sand Point Way NE., Seattle, WA 98115; and

(2) April 29, 2015, 6:30 p.m.-9:30 p.m., Vern Burton Memorial Community Center, 308 East 4th Street, Port Angeles, WA.

Background

On March 13, 2015, the U.S. Environmental Protection Agency announced the availability of NMFS' DEIS concerning the Makah Indian Tribe's February 2005 request to resume limited hunting of ENP gray whales in the coastal portion of the Tribe's usual and accustomed fishing grounds, off the coast of Washington State, for ceremonial and subsistence purposes. Informed by information received during public scoping, this DEIS contains updates and a new set of alternatives compared to a previous DEIS released on May 9, 2008 (73 FR 26394) and later terminated on May 21, 2012 (77 FR 29967). The Tribe's proposed action stems from the 1855 Treaty of Neah Bay, which expressly secures the Makah Tribe's right to hunt whales. To exercise that right, the Tribe is seeking authorization from NMFS under the MMPA and the Whaling Convention Act. The release of this new DEIS is one of several steps NMFS will undertake to evaluate the Tribe's request.

The DEIS, prepared pursuant to the National Environmental Policy Act, considers various alternatives to the Tribe's proposed action. To develop the full range of action alternatives—five in total—we considered the principal components associated with a hunt, including: The time when whale hunting would occur; the area where whale hunting would occur; the annual and six-year limits on the number of whales harvested, struck, and struck and lost; cessation of whale hunting if a predetermined number of identified whales (i.e., included in a photographic catalog of whales from the Pacific Coast Feeding Group area) were harvested; and the method of hunting. This DEIS addresses a number of resources identified for review during both internal and public scoping, including: Water quality, marine habitat and species, eastern and western North Pacific gray whales, other wildlife species, economics, environmental justice, social environment, cultural resources, ceremonial and subsistence resources, noise, aesthetics, transportation, public services, public safety, and human health.

The DEIS provides an important opportunity for the public to formally comment on the Tribe's proposal and the various alternatives. These comments, in conjunction with considerations described in the DEIS, will provide key information to assist NMFS with its final decision on the Tribe's request.

Access to Government Building

For access to the Federal government building in Seattle, Washington, the Department of Commerce Western Region Security Office has advised that all attendees must have valid government-issued identification (e.g., driver's license, tribal identification card, or passport). Prospective attendees for the public meeting in the NOAA Auditorium in Seattle, Washington should submit their first and last names and affiliation, if appropriate, via the NMFS email site (See ADDRESSES) by 4 p.m. PDT on April 26, 2015.

Reasonable Accommodation

Persons needing reasonable accommodations to attend and participate in the public meetings should contact Steve Stone (see FOR FURTHER INFORMATION CONTACT). To allow sufficient time to process requests, please call at least 5 business days prior to the relevant meeting(s).

Dated: March 17, 2015.
Perry F. Gayaldo,
Deputy Director, Office of Protected Resources, National Marine Fisheries Service.

[FR Doc. 2015-06432 Filed 3-19-15; 8:45 am]

BILLING CODE 3510-22-P